SECURITIES AND EXCHANGE COMMISSION

Sunshine Act Meetings

FEDERAL REGISTER CITATION OF PREVIOUS ANNOUNCEMENT: To be Published.

PREVIOUSLY ANNOUNCED TIME AND DATE OF THE MEETING: Wednesday, January 24, 2018 at 2:00pm.

CHANGES IN THE MEETING: The Closed Meeting scheduled for Wednesday, January 24, 2018 at 2:00 p.m. has been changed to Wednesday, January 24, 2018 at 11:00 a.m.

CONTACT PERSON FOR MORE INFORMATION: For further information and to ascertain what, if any, matters have been added, deleted or postponed, please contact the Office of the Secretary at (202) 551-5400.

Dated: January 19, 2018.
Brent J. Fields,
Secretary.

[FR Doc. 2018-01294 Filed 1-19-18; 4:15 pm]

BILLING CODE 8011-01-P